DEPARTMENT OF TRANSPORTATION

Federal Aviation Administration

Notice of Industry Meeting

AGENCY: Federal Aviation Administration (FAA), DOT.

ACTION: Notice of public meeting.

SUMMARY: The Federal Aviation Administration (FAA) is hosting an industry day to introduce the Four-Dimensional Trajectory (4DT) Live Flight Demonstration Project to the aviation community. The FAA will present and discuss the 4DT Live Flight Demonstration Project vision, objectives, partnership requirements, and project timelines. The Industry Day will provide the initial platform for interested organizations to collaborate and strategize on project partnerships to execute the live flight demonstrations with the FAA.

DATES: The public meeting will be held on October 24, 2018, from 1:00 p.m. to 4:30 p.m. Teaming proposals will be due 1 month following Industry Day.

ADDRESSES: The public meeting will be held at the FAA's Florida NextGen Testbed (FTB), 557 Innovation Way, Daytona Beach, FL 32114.

FOR FURTHER INFORMATION CONTACT: Biruk Abraham, 4DT Live Flight Project Manager, Technology Development & Prototyping Division (ANG-C5), Federal Administration, 800 Independence Ave. SW, Washington, DC 20591; telephone (202) 267-8816; email: biruk.abraham@faa.gov.

SUPPLEMENTARY INFORMATION:

Background

The current Air Traffic Management (ATM) environment is dependent on the exchange of information via a combination of voice and digital means. As ATM continues to evolve into a more collaborative decision making (CDM) environment to support the increasing operational density, the demand for digitally exchanging more and increasingly complex information will continue to grow. In a CDM environment, the current systems and mixed aircraft equipage of communication capabilities could lead to inefficient use of airspace and airport operations. The FAA envisions that leveraging emerging technologies and data exchange standards will result in the exchange of significantly more and high-quality aviation information via commercially available high-bandwidth air/ground (A/G) communications infrastructure. This will enable an efficient CDM environment, leading to the realization of trajectory-based operations benefits within the National Airspace System (NAS) and its airspace users.

The FAA is establishing a 4DT Live Flight Demonstration Project in collaboration with partners in the aviation community to showcase applications supporting A/G capabilities for the exchange of trajectory information, negotiation of trajectories and execution of agreed upon trajectories throughout all phases of flight, utilizing a commercially available communications architecture and flight deck technologies.

To solicit industry partnership teams, the FAA is hosting an Industry Day to introduce the 4DT Live Flight Demonstration Project. The FAA invites the aviation community—commercial and corporate operators, aircraft avionics manufacturers, aircraft connectivity service providers, and all others interested in participating in the live flight demonstrations to attend the 4DT Live Flight Demonstration Industry Day. The Industry Day will provide a platform for interested organizations to collaborate and strategize on project partnerships to execute the live flight demonstrations with the FAA.

The 4DT Live Flight Demonstration will leverage the FAA's System Wide Information Management capabilities, Controller-Pilot Data Link Communications services, and FAA ATM and air traffic control (ATC) ground automation capabilities. The FAA is seeking to engage industry partner teams to provide complementary industry resources required for the demonstration. These resources include, but are not limited to personnel and subject matter experts (Pilots, Aircraft Dispatchers, etc.), aircraft equipped with FANS 1/A, Airline Operations Center/Flight Operations Center flight planning and dispatch applications, Electronic Flight Bags hardware and software applications, Aircraft Interface Devices, A/G broadband internet services, ground automation system applications, commercial data management services, and other capabilities that industry may see beneficial to support the future ATM environment. The Live Flight Demonstration will provide a platform to showcase the benefits of trajectory sharing and synchronization and begin to establish the policies and procedures for their routine usage with the National Airspace System.

Registration

Space at the FTB facility is limited and therefore, attendance will be on a first come first served basis. However, a webcast will be provided for those that cannot attend in person. To attend the Industry Day (in person or via webcast), participants must register via the following link: https://www.eventbrite.com/e/4dt-live-flight-demonstration-industry-day-tickets-48876809854.

Issued in Washington, DC, on September 25, 2018.
Paul Fontaine,
Director, Portfolio Management & Technology Development Office (ANG-C).

[FR Doc. 2018-21205 Filed 9-27-18; 8:45 am]

BILLING CODE 4910-13-P